Title 3—

The President

Proclamation 9399 of February 29, 2016

American Red Cross Month, 2016

By the President of the United States of America

A Proclamation

Over a century and a half ago, as gunfire echoed through America's skies and division flared between North and South, a trailblazing woman, Clara Barton, braved bullets and cannon fire to deliver much-needed care, comfort, and supplies to wounded soldiers of the Civil War. Undaunted by expectations of women at the time, Clara Barton persevered, as she had her whole life, and strived to aid those who sacrificed to save our Union. Determined that humanitarianism could thrive in peace as well as in conflict, she carried her resolve overseas upon the war's end and was introduced to a relief organization in Europe that inspired her to come home to the United States and establish the American Red Cross.

Today, supporters, volunteers, and employees of the American Red Cross reflect the best of our Nation's spirit—responding to tens of thousands of tragedies here at home each year and bringing relief and assistance to suffering individuals across the globe. In the last year, countless people from the American Red Cross and many other service organizations have served on the front lines of disaster and done the hard work of improving our country and our world, never asking for credit or glory, fame or fortune. From floods that ravaged the plains of the Midwest and the coastlines of South Carolina, to wildfires that scorched California, and an earthquake that devastated Nepal, the American Red Cross has distributed almost one million relief items and provided tens of millions of dollars in assistance to victims. And when an influx of migrants from Syria stretched the capacities of countries around the world, the American Red Cross deployed tens of thousands of volunteers across the Atlantic to provide medical care and essential resources. These selfless heroes inspire hope and offer help to those in need, and as stalwarts in our communities, they build individual resilience and safeguard our blood supply.

The spirit of resilience and service that drives our people in the wake of tragedy is what makes us an anchor of global strength and stability. When hardship strikes, countries around the world look to our Nation for help, and the American Red Cross and similar organizations demonstrate what is possible when compassionate people come together to uphold the basic values that define America—that we are each other's keepers and that we all must accept our obligations to one another. This month, let us be guided by the truth that we all share a similar destiny, and let us support organizations that work to lift up the lives of our planet's most vulnerable people. Together, we can give everyone a place to turn in times of crisis and uncertainty.

NOW, THEREFORE, I, BARACK OBAMA, President of the United States of America and Honorary Chairman of the American Red Cross, by virtue of the authority vested in me by the Constitution and the laws of the United States, do hereby proclaim March 2016 as American Red Cross Month. I encourage all Americans to observe this month with appropriate programs, ceremonies, and activities, and by supporting the work of service and relief organizations.

IN WITNESS WHEREOF, I have hereunto set my hand this twenty-ninth day of February, in the year of our Lord two thousand sixteen, and of the Independence of the United States of America the two hundred and fortieth.

[FR Doc. 2016-04842

Filed 3-2-16; 8:45 am]

Billing code 3295-F6-P